DEPARTMENT OF AGRICULTURE

Forest Service

Mendocino National Forest; Upper Lake Ranger District; California; Pine Mountain Late-Successional Reserve Habitat Protection and Enhancement Project

AGENCY: Forest Service, USDA.

ACTION: Notice of Intent to Prepare an Environmental Impact Statement.

SUMMARY: The Mendocino National Forest, Upper Lake Ranger District, proposes to conduct fuels reduction and habitat enhancement treatments on approximately 7,830 acres southwest of Lake Pillsbury in the Pine Mountain vicinity. The Planning Area is 10,200 acres in size and comprises both Late Successional Reserve (LSR) and Matrix land designations. Of the approximately 7,830 acres to be treated, ~5690 acres are within the Pine Mountain LSR and ~2,140 acres are in Matrix lands. The project emphasizes fuel reduction activities and habitat management for the protection and enhancement of late-successional species. The project area was chosen for treatment based on past fire history and the existing conditions that pose a threat to late-successional habitat.

The Pine Mountain LSR is one of the smaller LSRs within the Forest and provides a link between the Blue Slides LSR seven miles to the southeast and the Sanhedrin LSR, 1.25 miles to the north. This LSR also provides a critical link to State and other Federal lands to the south and west. This area is currently part of Northern Spotted Owl Critical Habitat (Unit 11, Subunit ICC 5), a designated land allocation by U.S. Fish and Wildlife Service, and also includes 1.6 miles of critical habitat for anadromous fish. These habitats are located within both the LSR and matrix lands. The Project Area is located approximately 15 miles north of the town of Upper Lake, primarily in T18N, R10W, and portions of T18N, R11W; T17N, R10W; and T17N, R11W, Mount Diablo Base Meridian.

DATES: Comments concerning the scope of the analysis must be received by June 19, 2014. The draft environmental impact statement is expected in August 2014 and the final environmental impact statement is expected in December 2014.

ADDRESSES: Send written comments to Forest Supervisor, 825 N. Humboldt Avenue, Willows, CA 95988. Comments may also be sent via email to comments-pacificsouthwest-mendocino@fs.fed.us, or via facsimile to (530) 934-7384.

A public meeting will be held on May 30, 2014 to enable those with interest in the project to obtain more information, ask questions, and make comments for the development of the EIS and the alternatives. A field trip the following day may be held if enough interest is shown.

FOR FURTHER INFORMATION CONTACT: Frank Aebly, at the Upper Lake Ranger District, 10025 Elk Mountain Road, Upper Lake, CA 95485, (707) 275-2361, or faebly@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

Treatments in the Pine Mountain area are being proposed for several reasons: To reduce the risk to late-successional habitat loss from wildfire through vegetative treatments designed to modify and restore characteristic fire regimes and forest structure; improve forest health, vigor, and resilience to fire, insects and disease as well as enhance the diversity of plant and animal habitat found within the project area while restoring and enhancing late successional habitat; and to manage National Forest lands (including roads and trails) to meet the Aquatic Conservation Strategy Objectives and direction set forth in the Mendocino National Forest Land and Resource Management Plan (LRMP).

Proposed Action

The Proposed Action includes the following treatments to achieve the desired conditions:

• Fuel treatments may be applied as prescribed fire only or as a combination of prescribed fire with mechanical treatments, piling and pile burning.

• Mechanical treatments will include mastication or thinning of trees. Thinning of trees less than 10 inches in diameter at breast height (dbh) will be implemented by Forest Service personnel or through service contracts. Thinning of trees greater than 10 inches dbh will be implemented through a commercial contract. These treatments are intended to achieve ecological objectives such as restoring a fire-resilient stand structure, managing for open habitat (that includes shrubs and hardwoods), hastening the development of desired late successional stand characteristics in plantations as well as accelerating the development and vigor of larger trees outside plantations. Treatments would reduce competition between trees for onsite resources such as moisture, light, nutrients and growing space; and would reduce overly dense stand conditions which have led to declining stand health and uncharacteristic fire regimes.

• Prescribed fire treatments will be applied in chaparral areas, following direction provided by the LRMP, to create a mosaic of age classes which provides for the development of heterogeneous chaparral habitat and interruption of fuel continuity.

• Prescribed fire treatment will be applied in forested areas with excessive accumulations of natural fuels, following direction provided by the LRMP.

• Shaded fuel breaks will be constructed following direction provided by LSR Assessment to provide a buffer against fires originating from the west and moving eastward with the prevailing winds. The fuel breaks will also assist in prescribed fire activities.

Other proposed activities include road management such as road maintenance, drainage improvement, road decommissioning, temporary road construction and rehabilitation, and non-system trail closures. The Interdisciplinary Team is developing design features and Best Management Practices to protect water, wildlife, aquatic, archaeological, cultural, and botanical resources.

Responsible Official

The Responsible Official for this project is Sherry Tune, Forest Supervisor, 825 N. Humboldt Avenue, Willows, CA 95988.

Nature of Decision To Be Made

The Forest Supervisor will decide whether to implement the proposed action, take an alternative action that meets the purpose and need, or take no action.

Scoping Process

This notice of intent initiates the scoping process, which guides the development of the environmental impact statement. A public meeting will be held on May 30, 2014, to enable those with interest in the project to obtain more information, ask questions, and make comments for the development of the EIS and the alternatives. A field trip the following day may be held if enough interest is shown.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this project. Comments submitted anonymously will be accepted and considered, however.

Dated: May 7, 2014.
Sherry A. Tune,
Forest Supervisor.

[FR Doc. 2014-11609 Filed 5-19-14; 8:45 am]

BILLING CODE 3410-11-P